DEPARTMENT OF JUSTICE

Notice of Lodging of Settlement Agreement Pursuant to RCRA and the Bankruptcy Code

Notice is hereby given that on September 13, 2002, the Unites States lodged a proposed Settlement between the United States, the State of Louisiana, Borden Chemicals and Plastics Operating Limited Partnership (“Debtor”), BCP Management, Inc., and Borden Chemical, Inc. (“BCI”) with the United States Bankruptcy Court for the District of Delaware, in In re Borden Chemicals and Plastics Operating Limited Partnership et al, No. 01-1268, a case for relief under Chapter 11 of the Bankruptcy Code, 11 U.S.C. 101 et seq.

The proposed Settlement Agreement resolves the Proof of Claim of the United States in connection with the chemical manufacturing facility owned and operated by the Debtor located in Geismar, Louisiana. Under the proposed Settlement Agreement, BCI, the parent of the general partner of the Debtor, has agreed to complete certain of the Debtor's obligations under a 1998 Consent Decree with the Environmental Protection Agency (“EPA”) under the Resource Conservation and Recovery Act (“RCRA”), 42 U.S.C. 6921 et seq.; the Comprehensive Environmental Response, Compensation and Liability Act (“CERCLA”), 42 U.S.C. 9601 et seq.; and the Clean Air Act (“CAA”), 42 U.S.C. 7401 et seq., for the Debtor's facility in Geismar, Louisiana. That Consent Decree required the Debtor to obtain a RCRA permit, to come into compliance with RCRA regulations, to perform a facility-wide corrective action and protect the aquifer underlying the facility, to pay a $3.6 million civil penalty and to perform certain Supplemental Environmental Projects (“SEPs”). See United States v. Borden Chemical and Plastics Operating Limited Partnership C.A. No. 94-440 (Consent Decree, W.D. La. June 10, 1998). Although the Debtor applied for the permit, paid the civil penalty and has completed most provisions of the Consent Decree. Under the proposed Settlement Agreement, the Debtor will complete the SEPs, and BCI will assume responsibility for implementation of the remaining corrective action and remedial provisions of the Consent Decree.

The Department of Justice will receive for a period of fifteen (15) days from the date of this publication comments relating to the proposed Settlement Agreement. Comments should be addressed to the Assistant Attorney General, Environment and Natural Resources Division, United States Department of Justice, P.O. Box 7611, Ben Franklin Station, Washington, D.C. 20044-7611, and should refer to In re Borden Chemicals and Plastics Operating Limited Partnership, et al., DJ No. 90-11-2-875/2.

The proposed Settlement Agreement, including related exhibits, may be examined at the Office of the United States Attorney for the District of Delaware, 1201 Market Street, Suite 1100, P.O. Box 2046, Wilmington, Delaware 19800-2046; and at the Region VI Office of the United States Environmental Protection Agency, 1445 Ross Avenue, Dallas, Texas, 75202. A copy of the proposed Settlement Agreement and related exhibits may be obtained by mail from the Department of Justice Consent Decree Library, P.O. Box 7611, Washington, DC 20044-7611. In requesting a copy, please enclose a check for reproduction costs (at 25 cents per page) in the amounts of $78.50, payable to the U.S. Treasury.

Thomas A. Mariani, Jr.,
Assistant Chief, Environmental Enforcement Section, Environment and Natural Resources Division.

[FR Doc. 02-23700 Filed 9-17-02; 8:45 am]

BILLING CODE 4410-15-M